DEPARTMENT OF DEFENSE

Department of the Army; Corps of Engineers

Notice of Availability of the Draft Environmental Impact Statement for the Prado Basin Master Plan, San Bernardino and Riverside Counties, CA

AGENCY: Department of the Army, U.S. Army Corps of Engineers, DoD.

ACTION: Notice of availability.

SUMMARY: The Environmental Impact Statement (EIS) addresses potential environmental impacts associated with the proposed Prado Basin Master Plan, and identifies recommended measures to reduce such impacts. The Prado Basin Master Plan proposes a range of recreation uses and features for identified planning areas with the Basin. Specific site plans and layouts for these proposed uses would be prepared when future specific development plans are proposed. The impact discussion, in turn, is purposely general in nature, and recommended measures to reduce impacts allow for flexibility. The potential impacts as stated and the commitment to minimize impacts are intended to provide a framework for future proposals. They also provide some guidelines for impacts that will require mitigation; short of making untimely, detailed, recommendations. This approach allows future recreation development sponsors the appropriate flexibility to design and formulate specific mitigation, including the parties responsible for implementation and verification, when details of specific Master Plan development proposals are presented. The U.S. Army Corps of Engineers has cooperated with counterparts in Orange, San Bernardino and Riverside Counties in Developing this Master Plan.

Two alternatives are proposed for consideration for the Prado Basin: Adopting the proposed Prado Basin Master Plan, and the No Project alternative. The proposed plan would serve as a guide for orderly and coordinated use, development and management of the land in the Prado Basin. The discussion of affected environment and potential environmental impacts in this Environmental Impact Statement (EIS) are based on evaluation of land use designations proposed in the Basin Master Plan. Specific development proposals within the general land use Planning Areas would require appropriate National Environmental Policy act (NEPA) clearance to specifically address the potential environmental effects of those proposals.

The No Project Alternative would eliminate the implementation of the recreation land use contemplated in the proposed Basin Master Plan, and in the continuation of current land use activities on the site. This alternative would result in the Corps being unable to meet its project objectives such as providing for the expressed public interests for recreation.

DATES: Comments concerning this Draft EIS should be submitted by January 23, 2005.

ADDRESSES: District Engineer, U.S. Army Corps of Engineers, Los Angeles District, ATTN: CESPL-PD-RQ, P.O. Box 532711, Los Angeles, CA 90053-2325.

FOR FURTHER INFORMATION CONTACT: Ms. Nedenia Kennedy, Chief, Environmental Policy Group, telephone (213) 452-3856, Mr. Alex Watt, Chief, Environmental Resources Branch, telephone (213) 452-3840.

SUPPLEMENTARY INFORMATION: 1. Authorization. This Master Plan was prepared as a guide for the orderly and coordinated use, development and management of all resources in the existing and proposed Prado Flood Control Basin. Under guidance at ER 1130-2-550, “Preparation of Project Master Plans,” dated November 15, 1996, “master plans are to be developed and kept current for all Civil Works projects and other fee-owned lands for which the Corps has administrative responsibility for management.” The master plan is to be an “essential element in fostering an efficient and cost-effective project natural resources management program,” and by providing direction for project development and use is “a vital tool for the responsible stewardship of project resources for the benefit of present and future generations * * * [that] * * * promotes the protection, conservation and enhancement of natural, cultural and man-made resources.” The previous Master Plan for the Prado Flood Control Basin was prepared in February 1976, and no longer adequately implements Corps policies and goals summarized above. The 1976 Master Plan, moreover, did not contemplate notable changes in the physical environment, and notably the substantial increase in the amount of biologically valuable reparian plant communities, the increase in species and populations of threatened and endangered species in the Basin; combined with the dramatic increase in visitation and variety of public outdoor recreation opportunities, plus the changing profile of adjacent land use types and development intensity.

2. Background. Construction of Prado Dam was authorized by the Flood Control Act of 1936, as amended (Pub. L. 74-738), as part of a general plan for the construction of flood control facilities in the Santa Ana River Basin in Southern California. Construction of the Dam was completed in May 1941. The Flood Control Act of 1944, as amended, (Pub. L. 78-534), authorized the United States Army Corps of Engineers (Corps) to construct, maintain and operate public park and recreation facilities at water resources development projects. The law also permitted the Corps to authorize local interests to construct, maintain and operate recreation facilities.

Because flood reduction remains the primary purpose of the Prado Dam project, this document first considers these requirements, or constraints. It also identifies environmentally sensitive areas, and multiple resources management areas for continued and future use. Careful planning is required to balance the sometimes competing needs and desires of the public for high-density recreation uses with environmental protection requirements and with the flood control protection purpose of the Prado Basin. This Master Plan is intended, therefore, to allow balanced use of the subject natural and recreation resources.

Conceptual guidance is provided in this plan for recreation development for Corps lands located primarily in upland portions of the Prado Basin. Under guidelines such as the Corps Environmental Operating Principles, this plan supports leaving the lower portions of the Basin as a natural refuge as evaluated in the EIS. Specific development proposals for recreation and environmental features under this plan, however, will still require supplemental evaluation and documentation under NEPA.

This DEIS, in turn, provides: (1) A description of alternatives, including the No-Action alternative; (2) an analysis of existing and future conditions in the area without the project; (3) and an analysis of potential impacts associated with the two alternatives, including the preferred alternative (proposed action).

3. Proposed Action. The proposed Prado Basin Master Plan is considered a “ * * * continuing and dynamic document * * * ” that presents broad concepts, not specific design proposals. The Basin Master Plan identifies numerous “Planning Areas” in the Prado Basin and gives a range of land use development alternatives based on input from local agencies and potential development intensity. These Planning Areas are described in detail, and specific recreational use proposals are provided for most areas up to the 556-foot (169 meter) contour elevation. For each recreation use alternative, a more detailed list of potential site design components is described.

The purpose of this Environmental Impact Statement (EIS) is to evaluate the potential environmental impacts of the land uses proposed in the Basin Master Plan, and to recommend methods to mitigate for future, specific, development proposals. This environmental review is conducted at a programmatic level to provide environmental clearance for the Master Plan in accordance with the National Environmental Policy Act. The Impact analysis considers the highest intensity of development anticipated for each Planning Area. Further NEPA clearance for specific proposals would be required in the form of an Environmental Assessment (EA) for minor changes in use/intensity from what was evaluated in the EIS or in the form of a site-specific EIS for major changes in proposed use or development intensity.

4. Alternatives.

a. No Action: The No Project alternative would eliminate the implementation of the recreation land uses in the Proposed Basin Master Plan and in the continuation of current land use activities on the site. This alternative would result in the Corps being unable to meet its project objectives such as providing for the expressed public interest for recreation. No Planning Areas would be designated as such.

b. Proposed Master Plan Alternative: The proposed Basin Master Plan would serve as a guide for orderly and coordinated use, development and management of land in the Prado Basin. Specific development proposals within the general land use Planning Areas will require appropriate National Environmental Policy Act (NEPA) clearance to specifically address the potential environmental effects of those proposals.

5. Scoping Process. Participation of all interested Federal, State and County resource agencies, as well as Native American peoples, groups with environmental interests, and all interested individuals has been and is encouraged. The public review period will conclude 45 days after publication of this notice.

The U.S. Army Corps of Engineers will consider public concerns on the Draft EIS. A summary of the Public Hearing and written comment letters and responses will be incorporated into the Final EIS as appropriate.

6. Dates. The draft EIS will be released for public review on or about December 9, 2005. The Environmental Protection Agency plans to publish a Notice of Availability of the Draft EIS in the Federal Register on or about December 9, 2005. The public review of the Draft EIS ends on January 23, 2006. The final Public Hearing will be scheduled in January, 2006 at the El Prado Golf Course, 6555 Pine Avenue, Chino, California. The location, date, and time of the public hearing will be announced in the local news media, and separate notice will be sent to all parties on the project mailing list.

Dated: December 8, 2005.
Mark R. Blackburn,
Lieutenant Colonel, US Army, Acting District Engineer.

[FR Doc. 05-24399 Filed 12-22-05; 8:45am]

BILLING CODE 3710-KF-M